DEPARTMENT OF COMMERCE

National Oceanic and Atmospheric Administration

50 CFR Part 665

RIN 0648-BA98

Western Pacific Fisheries; Fishing in the Marianas Trench, Pacific Remote Islands, and Rose Atoll Marine National Monuments

AGENCY: National Marine Fisheries Service (NMFS), National Oceanic and Atmospheric Administration (NOAA), Commerce.

ACTION: Notice of availability of fishery ecosystem plan amendments; request for comments.

SUMMARY: NMFS announces that the Western Pacific Fishery Management Council proposes to amend four fishery ecosystem plans to establish fishing requirements consistent with the Presidential proclamations that created the Marianas Trench, Pacific Remote Islands, and Rose Atoll Marine National Monuments.

DATES: NMFS must receive comments on the proposed amendments by April 2, 2013.

ADDRESSES: You may submit comments on the proposed amendments, identified by NOAA-NMFS-2012-0070, by either of the following methods:

• Electronic Submission: Submit all electronic public comments via the Federal e-Rulemaking Portal. Go to www.regulations.gov/#!docketDetail;D=NOAA-NMFS-2012-0070, click the “Comment Now!” icon, complete the required fields, and enter or attach your comments.

• Mail: Send written comments to Michael D. Tosatto, Regional Administrator, NMFS Pacific Islands Region (PIR), 1601 Kapiolani Blvd., Suite 1110, Honolulu, HI 96814-4700.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous), and will accept attachments to electronic comments in Microsoft Word, Excel, or Adobe PDF file formats only.

The Western Pacific Fishery Management Council (Council) prepared Amendment 3 to the Fishery Ecosystem Plan for the Mariana Archipelago, Amendment 2 to the Fishery Ecosystem Plan for the Pacific Remote Island Areas, Amendment 3 to the Fishery Ecosystem Plan for American Samoa, and Amendment 6 to the Fishery Ecosystem Plan for Pelagic Fisheries of the Western Pacific. The amendments are presented as a single document, which includes background information on this proposed rule, an environmental assessment, and a regulatory impact review. You may obtain the draft amendment document from www.regulations.gov or from the Council, 1164 Bishop St., Suite 1400, Honolulu, HI 96813, tel 808-522-8220, fax 808-522-8226, or from www.wpcouncil.org.

FOR FURTHER INFORMATION CONTACT: Bob Harman, NMFS PIR Sustainable Fisheries, tel 808-944-2200.

SUPPLEMENTARY INFORMATION: The Council and NMFS manage fisheries through fishery ecosystem plans for American Samoa, the Mariana Archipelago (Guam and the Commonwealth of the Northern Mariana Islands (CNMI)), the Pacific Remote Islands (PRI), Hawaii, and western Pacific pelagic fisheries.

In 2009, President Bush issued Presidential Proclamations that established three marine national monuments in the central and western Pacific under the authority of the Antiquities Act, as follows:

• Proclamation 8335 of January 6, 2009, “Establishment of the Marianas Trench Marine National Monument” (74 FR 1557, January 12, 2009).

• Proclamation 8336 of January 6, 2009, “Establishment of the Pacific Remote Islands Marine National Monument” (74 FR 1565, January 12, 2009).

• Proclamation 8337 of January 6, 2009, “Establishment of the Rose Atoll Marine National Monument” (74 FR 1577, January 12, 2009).

The proclamations recognize that it is in the public interest to preserve these submerged lands, waters, and marine resources, which are biologically diverse, contain sites of historical and scientific interest, and are essential to the long-term study of tropical marine ecosystems. For more detailed information regarding the marine resources and background for the management of the Monuments, please refer to the Proclamations, available at www.regulations.gov.

Among other things, the Proclamations define the Monuments' boundaries, prohibit commercial fishing, and describe the management of Monument resources. The Proclamations direct the Secretary of Commerce to take action under the Magnuson-Stevens Fishery Conservation and Management Act (Magnuson-Stevens Act) to regulate fisheries and ensure proper care and management of the monument, including allowing for traditional indigenous fishing practices.

The Council recommended incorporating the Proclamations' fishery management provisions into its fishery ecosystem plans, and recommended that NMFS establish certain provisions relating to traditional indigenous fishing practices. To manage fisheries in the monuments consistent with the Proclamations, the Council has submitted, for Secretarial review, Amendment 3 to Fishery Ecosystem Plan for the Mariana Archipelago, Amendment 2 to the Fishery Ecosystem Plan for the Pacific Remote Island Areas, Amendment 3 to the Fishery Ecosystem Plan for American Samoa, and Amendment 6 to the Fishery Ecosystem Plan for Pelagic Fisheries of the Western Pacific. The Council recommended amending the four plans to incorporate and establish fishing management provisions consistent with the proclamations, including the following:

• Identify the boundaries of the Monuments and their various management units.

• Prohibit commercial fishing in the Pacific Remote Islands and Rose Atoll Monuments, and in the Islands Unit of the Marianas Trench Monument.

• Establish management measures for non-commercial and recreational charter fishing in the Monuments, including but not limited to the following:

○ Require Federal permits and reporting for non-commercial and recreational charter fishing to aid in the monitoring of fishing activities.

○ Allow customary exchange in non-commercial fisheries in the Marianas Trench and Rose Atoll Marine National Monuments to help preserve traditional, indigenous, and cultural fishing practices.

○ Define customary exchange as the non-market exchange of marine resources between fishermen and community residents, and the residents' families and friends, for goods, services, and/or social support, for cultural, social, or religious reasons, and may include cost recovery through monetary reimbursements and other means for actual trip expenses (e.g., ice, bait, food, or fuel) that may be necessary to participate in fisheries in the western Pacific.

○ Limit the eligibility for non-commercial fishing to residents and businesses of local fishing communities for the Rose Atoll Monument and Marianas Monument Islands Unit.

○ Prohibit all fishing within 12 nm of the Pacific Remote Islands, subject to U.S. Fish & Wildlife Service authority to allow non-commercial fishing in consultation with NOAA and the Council.

○ Prohibit all fishing within 12 nm around Rose Atoll. The Council and NMFS would review this regulation after three years.

• Prohibit the conduct of commercial fishing outside the Monument and non-commercial fishing within the Monument during the same trip.

NMFS must receive any public comments on the proposed amendments by April 2, 2013 to be considered in the Secretary of Commerce's decision to approve, partially approve, or disapprove the amendments. NMFS expects to soon publish and request public comments on a proposed rule that would implement the measures recommended in the amendments.

Authority: 16 U.S.C. 1801 et seq.

Dated: January 28, 2013.
James P. Burgess,
Acting Deputy Director, Office of Sustainable Fisheries, National Marine Fisheries Service.

[FR Doc. 2013-02116 Filed 1-31-13; 8:45 am]

BILLING CODE 3510-22-P